DEPARTMENT OF DEFENSE

Office of the Secretary

Defense Science Board

AGENCY: Department of Defense.

ACTION: Notice of Advisory Committee meeting.

SUMMARY: The Defense Science Board Task Force on Manufacturing Technology will meet in open session on February 16, 2005, and March 23-24, 2005, at SAI, 3601 Wilson Boulevard, Arlington, VA.

This Task Force will review the Department of Defense Manufacturing Technology (ManTech) Program.

The mission of the Defense Science Board is to advise the Secretary of Defense and the Under Secretary of Defense for Acquisition, Technology & Logistics on scientific and technical matters as they affect the perceived needs of the Department of Defense. At these meetings, the Defense Science Board Task Force will review the extent to which ManTech investments and funding plans for each Military Service and the Defense Logistics Agency support near-term, warfighting operations, the industrial base, and long-range/revolutionary technologies. Assess the adequacy of technical investments across manufacturing process disciplines and support for both Joint Warfighting Capabilities and revolutionary technologies. The Task Force will also appraise funding for manufacturing research and development, including mechanisms to support both Service/Agency requirements and cross-cutting initiatives.

FOR FURTHER INFORMATION CONTACT: LTC Scott Dolgoff, USA, Defense Science Board, 3140 Defense Pentagon, Room 3D865, Washington, DC 20301-3140, via e-mail at scott.dolgoff@osd.mil, or via phone at (703) 695-4158.

SUPPLEMENTARY INFORMATION: Members of the public who wish to attend the meeting must contact LTC Dolgoff no later than February 7, 2005, and March 7, 2005, for further information about admission as seating is limited. Additionally, those who wish to make oral comments or deliver written comments should also request to be scheduled, and submit a written text of the comments by February 11, 2005, and March 16, 2005, to allow time for distribution to Task Force members prior to the meeting. Individual oral comments will be limited to five minutes, with the total oral comment period not exceeding 30 minutes.

Dated: January 25, 2005.
Jeannette Owings-Ballard,
OSD Federal Register Liaison Officer, Department of Defense.

[FR Doc. 05-1856 Filed 1-31-05; 8:45 am]

BILLING CODE 5001-06-M